Title 3—

The President

Proclamation 10446 of September 14, 2022

National Hispanic Heritage Month, 2022

By the President of the United States of America

A Proclamation

Hispanic heritage holds an indelible place in the heart and soul of our Nation, and National Hispanic Heritage Month reminds us that the American identity is a fabric of diverse traditions and stories woven together. Since the beginning, our country has drawn strength and insights from Hispanic writers, scientists, soldiers, doctors, entrepreneurs, academics, and leaders in labor and government. Our culture has been enriched by the rhythms, art, literature, and creativity of Hispanic peoples. And our deepest values have been informed by the love of family and faith that is at the core of so many Hispanic communities. All of these contributions help us realize the promise of America for all Americans.

During National Hispanic Heritage Month, we reaffirm that diversity is one of our country's greatest strengths. We also acknowledge the Hispanic leaders who have stayed in the struggle for equal justice to ensure that everyone in this Nation can contribute their talents and have the opportunity to thrive.

My Administration is committed to the success of Hispanic communities. Since coming to office, we have provided billions of dollars in loans, including to Hispanic-owned small businesses, and are working to increase the share of Government contracts going to underserved businesses by 50 percent. We have helped students, including Hispanic students, earn postsecondary degrees by providing over $10 billion to community colleges and approximately $11 billion to Hispanic-Serving Institutions. My Administration has sent billions of dollars in emergency financial aid grants directly to students and has increased the maximum Pell Grant by the largest amount in over a decade. Additionally, my Administration is providing up to $20,000 in debt relief as part of a comprehensive effort to address the burden of growing college costs. This action will have a significant impact on Hispanic borrowers, given that among Hispanic undergraduate borrowers, 65 percent receive Pell Grants. We have also strengthened rental assistance for families facing eviction and bolstered community health centers that predominately serve Hispanic patients and other patients of color. Our American Rescue Plan expanded the Child Tax Credit for 2021, providing critical relief to millions of working families and helping drive a historic reduction in Hispanic child poverty.

As we look ahead, we will continue to build a fair, humane, and orderly immigration system and fight to protect the rights of Deferred Action for Childhood Arrivals (DACA) recipients and others who call this country home. That means continuing to support a pathway to citizenship for those with temporary protected status as well as farm workers and other essential workers. It means keeping alive the torch of liberty that has led generations of immigrants to this land seeking new opportunities and a better future. We will also work to strengthen our partnerships with allies across Latin America.

Additionally, we are committed to reflecting the full talents of our Nation through our own Administration. I am proud to have appointed Secretary of Health and Human Services Xavier Becerra, Secretary of Homeland Security Alejandro Mayorkas, Secretary of Education Miguel Cardona, and Small Business Administrator Isabel Guzman, as well as Hispanic staff at every level of the Federal Government.

This month, we carry on the important work of honoring Hispanic heritage. Let us give thanks to the many generations of Hispanic leaders who have helped build this country and continue to fight for equality and justice. Let us pledge to invest in the next generation of Hispanic men and women who hold the destiny of our Nation in their hands.

In recognition of the achievements of the Hispanic community, the Congress, by Public Law 100-402, as amended, has authorized and requested the President to issue annually a proclamation designating September 15 through October 15 as “National Hispanic Heritage Month.”

NOW, THEREFORE, I, JOSEPH R. BIDEN JR., President of the United States of America, by virtue of the authority vested in me by the Constitution and the laws of the United States, do hereby proclaim September 15 through October 15, 2022, as National Hispanic Heritage Month. I call upon all Americans to observe this month with appropriate ceremonies, activities, and programs that celebrate Hispanic heritage and recognize the impact Hispanic peoples have had on our Nation.

IN WITNESS WHEREOF, I have hereunto set my hand this fourteenth day of September, in the year of our Lord two thousand twenty-two, and of the Independence of the United States of America the two hundred and forty-seventh.

[FR Doc. 2022-20325

Filed 9-16-22; 8:45 am]

Billing code 3395-F2-P